DEPARTMENT OF ENERGY

Federal Energy Regulatory Commission

[Docket No. RP99-176-033]

Natural Gas Pipeline Company of America; Notice of Filing of Change in Negotiated Rate Agreement

April 6, 2001.

Take notice that on March 30, 2001, Natural Gas Pipeline Company of America (Natural) tendered for filing with the Commission, copies of changes to a negotiated rate agreement that is currently on file with the Commission.

Natural states that the purpose of this filing is to implement an election made by Nicor Gas Company to exercise its unilateral MDQ reduction right, to be effective April 1, 2001, pursuant to the Firm Transportation and Storage Negotiated Rate Agreement that is currently on file with the Commission.

Natural concurrently tenders for filing with the Commission, under separate cover letter in this docket, copies of First Revised Sheet No. 26D to become part of its FERC Gas Tariff, Sixth Revised Volume No. 1.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-9025 Filed 4-11-01; 8:45 am]

BILLING CODE 6717-01-M